Memorandum of May 25, 2023

Delegation of Authority Under Section 7070 of the Department of State, Foreign Operations, and Related Programs Appropriations Act, 2023

Memorandum for the Secretary of State

By the authority vested in me as President by the Constitution and the laws of the United States of America, including section 301 of title 3, United States Code, I hereby delegate to the Secretary of State the functions and authorities vested in the President by section 7070 of the Department of State, Foreign Operations, and Related Programs Appropriations Act, 2023 (Division K of Public Law 117-328).

Any reference in this memorandum to the Act shall be deemed to be a reference to such Act as amended from time to time.

The delegation in this memorandum shall apply to any provision of any future public law that is the same or substantially the same as the provision referenced in this memorandum.

You are authorized and directed to publish this memorandum in the Federal Register.

THE WHITE HOUSE,

Washington, May 25, 2023

[FR Doc. 2023-11903

Filed 6-1-23; 8:45 am]

Billing code 4710-10-P